OVERSEAS PRIVATE INVESTMENT CORPORATION

April 27, 2006 Board of Directors Meeting

Time and Date: Thursday, April 27, 1006, 10 a.m. (Open Portion); 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters to be Considered:

1. President's Report.

2. Confirmation of Vice President.

3. Confirmation of Vice President.

4. Approval of January 19, 2006 Minutes (Open Portion).

Further Matters to be Considered: (Closed to the Public 10:15 a.m.).

1. Finance Project—Eastern Europe and NIS Countries.

2. Finance Project—Global.

3. Finance Project—Global.

4. Finance Project—Caribbean Community and Common Market/Dominican Republic.

5. Finance Project—Central America, Panama, Colombia, and Mexico.

6. Finance Project—Africa.

7. Finance Project—Southern Africa.

8. Approval of January 19, 2006 Minutes (Closed Portion).

6. Pending Major Projects.

7. Reports.

FOR FURTHER INFORMATION CONTACT: Information on the meeting may be obtained from Connie M. Downs at (202) 336-8438.

Dated: January 6, 2006.
Connie M. Downs,
Corporate Secretary, Overseas Private Investment Corporation.

[FR Doc. 06-3740 Filed 4-14-06; 12:40 pm]

BILLING CODE 3210-01-M